DEPARTMENT OF ENERGY

Federal Energy Regulatory Commission

Combined Notice of Filings #1

January 11, 2011.

Take notice that the Commission received the following electric rate filings:

Docket Numbers: ER10-149-005, ER05-487-010, ER09-832-013.

Applicants: Elk City Wind, LLC, FPL Energy Cowboy Wind, LLC, NexEra Energy Power Marketing, LLC.

Description: NextEra Energy Entities Notification of Non-Material Change in Status.

Filed Date: 01/10/2011.

Accession Number: 20110110-5144.

Comment Date: 5 p.m. Eastern Time on Monday, January 31, 2011.

Docket Numbers: ER10-2391-001.

Applicants: Vermont Yankee Nuclear Power Corporation.

Description: Triennial Market Power Analysis of Vermont Yankee Nuclear Power Corporation in Compliance with Order No. 697.

Filed Date: 01/10/2011.

Accession Number: 20110110-5131.

Comment Date: 5 p.m. Eastern Time on Friday, March 11, 2011.

Docket Numbers: ER11-39-001.

Applicants: Flat Water Wind Farm, LLC.

Description: Notice of Flat Water Wind Farm, LLC.

Filed Date: 01/10/2011.

Accession Number: 20110110-5231.

Comment Date: 5 p.m. Eastern Time on Monday, January 31, 2011.

Docket Numbers: ER11-2658-000.

Applicants: Pacific Gas and Electric Company.

Description: Pacific Gas and Electric Company submits tariff filing per 35.13(a)(2)(iii): PG&E's Five Points and Westside Solar Project LGIA to be effective 1/11/2011.

Filed Date: 01/10/2011.

Accession Number: 20110110-5002.

Comment Date: 5 p.m. Eastern Time on Monday, January 31, 2011.

Docket Numbers: ER11-2659-000.

Applicants: Florida Power Corporation.

Description: Florida Power Corporation submits tariff filing per 35.13(a)(2)(iii): Service Agreement No. 147 under Florida Power Corporation OATT to be effective 1/1/2011 under ER11-2659-000.

Filed Date: 01/10/2011.

Accession Number: 20110110-5035.

Comment Date: 5 p.m. Eastern Time on Monday, January 31, 2011.

Docket Numbers: ER11-2660-000.

Applicants: Southwestern Electric Power Company.

Description: Southwestern Electric Power Company submits tariff filing per 35.13(a)(2)(iii): 20110110 Tex-La Backup SA to be effective 1/1/2011.

Filed Date: 01/10/2011.

Accession Number: 20110110-5036.

Comment Date: 5 p.m. Eastern Time on Monday, January 31, 2011.

Docket Numbers: ER11-2661-000.

Applicants: ISO New England Inc.

Description: ISO New England Inc. submits tariff filing per 35.13(a)(2)(iii): Request for Waiver of Tariff Provision to be effective 1/10/2011.

Filed Date: 01/10/2011.

Accession Number: 20110110-5051.

Comment Date: 5 p.m. Eastern Time on Monday, January 31, 2011.

Docket Numbers: ER11-2662-000.

Applicants: PSEG Energy Resources & Trade LLC.

Description: PSEG Energy Resources & Trade LLC submits tariff filing per 35.1: Baseline Refile of Cost of Service Recovery Rate Tariff to be effective 1/11/2011.

Filed Date: 01/10/2011.

Accession Number: 20110110-5089.

Comment Date: 5 p.m. Eastern Time on Monday, January 31, 2011.

Docket Numbers: ER11-2663-000.

Applicants: Viridian Energy New Jersey LLC.

Description: Viridian Energy New Jersey LLC submits tariff filing per 35.12: FERC Electric Tariff, Volume No. 1 Filing to be effective 1/13/2011.

Filed Date: 01/10/2011.

Accession Number: 20110110-5127.

Comment Date: 5 p.m. Eastern Time on Monday, January 31, 2011.

Docket Numbers: ER11-2664-000.

Applicants: Powerex Corporation.

Description: Powerex Corporation submits tariff filing per 35: Rate Schedule No. 1 Compliance Filing to be effective 9/30/2010.

Filed Date: 01/10/2011.

Accession Number: 20110110-5159.

Comment Date: 5 p.m. Eastern Time on Monday, January 31, 2011.

Take notice that the Commission received the following PURPA 210(m)(3) filings:

Docket Numbers: QM10-6-000

Applicants: Commonwealth Edison Company

Description: ComEd's Compliance Filing in Response to December 7, 2010 Deficiency Notice.

Filed Date: 01/06/2011

Accession Number: 20110106-5166

Comment Date: 5 p.m. Eastern Time on Thursday, February 03, 2011

Take notice that the Commission received the following electric reliability filings:

Docket Numbers: RD11-1-000

Applicants: Version Two Facilities Design, Connectio

Description: Compliance Filing of the North American Electric Reliability Corporation in Response to December 7, 2010 Order Approving NERC's May 29, 2010 and July 6, 2010 Compliance Filings in Response to Order No. 722.

Filed Date: 01/06/2011.

Accession Number: 20110106-5111.

Comment Date: 5 p.m. Eastern Time on Wednesday, January 26, 2011.

Docket Numbers: RR09-6-003.

Applicants: North American Electric Reliability Corporation.

Description: Errata of the North American Electric Reliability Corporation to December 23, 2010 Compliance Filing Regarding Appendix 4D to the NERC ROP, Standard Processes Manual.

Filed Date: 01/10/2011.

Accession Number: 20110110-5167.

Comment Date: 5 p.m. Eastern Time on Monday, January 24, 2011.

Docket Numbers: RR10-7-002.

Applicants: North American Electric Reliability Corporation.

Description: Compliance Filing of the North American Electric Reliability Corporation in Response to July 12, 2010 and December 1, 2010 Commission Orders Relating to Compliance Monitoring and Enforcement Agreements Between SERC and FRCC and SERC and SPP RE.

Filed Date: 01/10/2011.

Accession Number: 20110110-5090.

Comment Date: 5 p.m. Eastern Time on Monday, January 31, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. 2011-1099 Filed 1-19-11; 8:45 am]

BILLING CODE 6717-01-P